DEPARTMENT OF AGRICULTURE

Animal and Plant Health Inspection Service

9 CFR Parts 1, 2, and 3

[Docket No. APHIS-2020-0068]

RIN 0579-AE61

Standards for Birds Not Bred for Use in Research Under the Animal Welfare Act

Correction

In rule document 2023-03357 beginning on page 10654 in the issue of Tuesday, February 21, 2023, make the following correction:

On page 10654, the Docket Number should read as set forth above.

[FR Doc. C1-2023-03357 Filed 2-23-23; 8:45 am]

BILLING CODE 0099-10-D